DEPARTMENT OF DEFENSE

Department of the Army

Board of Visitors, United States Military Academy (USMA)

AGENCY: Department of the Army, DoD.

ACTION: Notice of open meeting.

SUMMARY: In accordance with section 10(a)(2) of the Federal Advisory Committee Act (Pub. L. 92-463), announcement is made of the following meeting:

Name of Committee: Board of Visitors, United States Military Academy.

Date: Wednesday, April 13, 2005.

Place of Meeting: Veterans Affairs Conference room, Room 418, Senate Russell Building, Washington, DC.

Start Time of Meeting: Approximately 9 a.m.

FOR FURTHER INFORMATION CONTACT: Lieutenant Colonel Shaun T. Wurzbach, United States Military Academy, West Point, NY 10996-5000, (845) 938-4200.

SUPPLEMENTARY INFORMATION: Proposed Agenda: Spring Meeting of the Board of Visitors. Review of the Academic, Military and Physical Programs at the USMA. Sub Committee meeting on Academics, Military/Physical and Quality of Life to be held prior to Spring meeting. All proceedings are open.

Brenda S. Bowen,
Army Federal Register Liaison Officer.

[FR Doc. 05-5329 Filed 3-16-05; 8:45 am]

BILLING CODE 3710-08-M